DEPARTMENT OF DEFENSE

Department of the Air Force

Notice of Intent To Prepare an Environmental Impact Statement for the Air Force Reserve Command F-35A Operational Beddown

AGENCY: Department of the Air Force, Department of Defense.

ACTION: Notice of intent.

SUMMARY: The United States Air Force (USAF) is issuing this notice to advise the public of the intent to prepare an Environmental Impact Statement (EIS) for the Air Force Reserve Command (AFRC) F-35A Operational Beddown. The EIS will assess the environmental consequences that could result from the beddown and operation of 24 Primary Aerospace Vehicles Authorized (PAA) F-35A aircraft with 2 Backup Aircraft Inventory (BAI), facility and infrastructure development, and personnel changes at a military base in the continental United States where the AFRC conducts a global precision attack mission.

DATES: The USAF intends to hold public scoping meetings from 5:00 p.m. to 8:00 p.m. in the following communities on the following dates:

1. Homestead Air Reserve Base (ARB)—17 April 2018, at the William F. Dickenson Community Center, 1601 N Krome Avenue, Homestead, Florida 33030

2. Naval Air Station (NAS) Fort Worth Joint Reserve Base (JRB)—19 April 2018, at the Cendera Center, 3600 Benbrook Hwy., Fort Worth, Texas 76116

3. Davis-Monthan Air Force Base (AFB)—24 April 2018, at the Tucson Convention Center, 260 S Church Avenue, Tucson, Arizona 85701

4. Whiteman AFB—26 April 2018, at Knob Noster High School, 504 S Washington Avenue, Knob Noster, Missouri 65336.

ADDRESSES: The project website (www.AFRC-F35A-Beddown.com) provides more information on the EIS and can be used to submit scoping comments. Scoping comments can also be submitted to Mr. Hamid Kamalpour, U.S. Air Force, (210) 925-2738, AFCEC/CZN, 2261 Hughes Ave., Ste. 155, JBSA-Lackland AFB, Texas 78236-9853, hamid.kamalpour@us.af.mil.

For comments submitted by mail, a comment form is available for download on the project website. Comments will be accepted at any time during the environmental impact analysis process. However, to ensure the USAF has sufficient time to consider public input in the preparation of the Draft EIS, scoping comments should be submitted via the project website or to the address listed above by 11 May 2018.

SUPPLEMENTARY INFORMATION: The AFRC F-35A mission includes the beddown and operation of one squadron of 24 PAA F-35A aircraft with 2 BAI. The 24 PAA AFRC F-35A aircraft with 2 BAI would replace either 24 AFRC F-16 aircraft at Homestead ARB or NAS Fort Worth JRB or 24 AFRC A-10 aircraft at Davis-Monthan AFB or Whiteman AFB. The USAF has identified NAS Forth Worth JRB as the preferred alternative, and Davis-Monthan AFB, Homestead ARB, and Whiteman AFB as reasonable alternatives. Along with the No Action Alternative, all four bases will be evaluated as alternatives in the EIS. The United States Navy is a Cooperating Agency to the USAF for this EIS.

Scoping and Agency Coordination: To effectively define the full range of issues to be evaluated in the EIS, the USAF will solicit comments from interested local, state, and federal agencies and elected officials, Native American tribes, interested members of the public, and others. Public scoping meetings will be held in the local communities near the alternative bases. The scheduled dates, times, locations, and addresses for the public scoping meetings concurrently being published in local media.

Henry Williams,
Acting Air Force Federal Register Liaison Officer.

[FR Doc. 2018-05807 Filed 3-21-18; 8:45 am]

BILLING CODE 5001-10-P